DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 67 FR 42268-42271, dated July 21, 2002) is amended to reorganize the Office of the Director, NCHS.

Section C-B, Organization and Functions, is hereby amended as follows:

Delete the functional statement for the National Center for Health Statistics (CS) and insert the following:

(1) Provides national leadership in health statistics and epidemiology; (2) collects, analyzes, and disseminates national health statistics on vital events and health activities, including the physical, mental, and physiological characteristics of the population, illness, injury, impairment, the supply and utilization of health facilities and manpower, the operation of the health services system: health costs and expenditures, changes in the health status of people, and environmental, social, and other health hazards; (3) administers the Cooperative Health Statistics System; (4) stimulates and conducts basic and applied research in health data systems and statistical methodology; (5) coordinates to the maximum extent feasible, the overall health statistical and epidemiological activities of the program and agencies of the Department of Health and Human Services (DHHS) and provides technical assistance in the planning, management, and evaluation of the Department's statistical programs; (6) maintains operational liaison with statistical units of other health agencies, public and private, and provides technical assistance within the limitations of staff resources; (7) fosters research, consultation, and training programs in international statistical activities; (8) participates in the development of national health statistics policy with other Federal agencies; (9) directs the environmental and epidemiological statistics programs of the National Center for Health Statistics (NCHS); and (10) provides the Secretary, DHHS with consultation and advice on statistical matters in its role as the Government's principal general-purpose health statistics organization as designated by the Office of Management and Budget (OMB).

Delete the functional statement for the Office of the Director (CS1) and insert the following:

(1) Plans, directs, administers, coordinates and evaluates the total vital, health, and health-related statistics programs of the Center; (2) stimulates basic and applied research and development activities; (3) provides national and international leadership in vital and health statistics and epidemiology; (4) conducts a variety of professional activities to provide assistance to government agencies, to foster international relationships, and to improve the broad fields of vital and health statistics and epidemiology; (5) coordinates the Center's activities with public and private health statistical agencies; (6) provides advice and guidance on disease classification problems in the Center, coordinates activities within the Center on classification of diseases and procedures; and has responsibility for development of revision proposals and U.S. position on decennial revisions of the International Classification of Diseases (ICD); (7) directs the Center's environmental and epidemiological statistics programs; (8) provides management and administration for the Center; (9) provides program planning and development for the Center; (10) develops and coordinates legislative activities; and (11) directs and coordinates Center activities in support of the Department's Equal Employment Opportunity program.

Delete in its entirety the functional statement for the Office of International Statistics (CS15) and the Office of Data Standards, Program Development, and Extramural Programs (CS16).

After the Office of Planning, Budget and Legislation (CS17), insert the following:

Classifications and Public Health Data Standards Staff (CS18). (1) Serves as a nucleus for Public Health data standards and health classifications by fostering the collaborative development of tools and guidelines to enhance the integrity, comparability, quality, and usefulness of the data products from a wide variety of public and private agencies at the national and sub-national levels; (2) establishes and maintains liaison and partnerships with Federal agencies within and outside DHHS and with a wide variety of private and professional organizations to promote uniformity in classifications, data sets, definitions, and related data policies and standards; (3) assures representation of NCHS and takes a leadership role on intra- and interagency task forces and committees reviewing and developing uniform data elements and data sets for diverse health care settings, nomenclatures and classifications; (4) serves as a focal point within NCHS for collaborative activities related to computer-based patient record development; (5) supports the Director, NCHS, as a member of the DHHS Data Council and coordinates NCHS staff support to the Data Council for Public Health data standards activities; (6) provides scientific and technical support and Executive Secretariat services to the National Committee on Vital and Health Statistics (NCVHS), the legislatively-mandated advisory committee to the Secretary, DHHS; (7) establishes and maintains liaison between NCVHS and agencies within DHHS, other governmental agencies, and relevant private and professional organizations; (8) directs and facilitates cross-cutting Public Health data standards activities that involve multiple outside organizations and have important implications for NCHS and CDC programs; (9) provides liaison with standards-setting organizations on emerging data needs and on medical and health classification issues; (10) is responsible for overseeing, coordinating, evaluating, and formulating recommendations for the ICD Family of Classifications and related classifications, by providing the focus within NCHS for the development and execution of classification activities; (11) serves as the focal point and coordinator of U.S. Government activities related to the ICD and maintains liaison with the World Health Organization (WHO), through direction of the WHO Collaborating Center for the Classification of Diseases of North America; (12) provides advice and assistance within NCHS and to other agencies and organizations in the conduct of training activities related to Public Health data standards; conducts training in key areas as appropriate; and promotes appropriate training and educational materials for implementation and use of data sets and classification systems; (13) is responsible for assuring comparability of morbidity classification, using current and subsequent versions of the ICD for morbidity, and recommends revisions to the ICD for morbidity applications as appropriate; (14) assumes full responsibility for the development and implementation of the evaluation program of NCHS for assessment of the adequacy, completeness, and responsiveness of Center programs both nationally and internationally to the NCHS mission and user needs for data; based on evaluations, makes proposals for changes in NCHS programs or policies; (15) participates with appropriate agencies and organizations to promote the dissemination, adoption, and use of Public Health data standards advocated by NCHS, DHHS, and the NCVHS; to this end, develops comprehensive policy analyses and special reports, and newsletters; and (16) directs the work of the Public Health Data Standards Consortium.

Dated: September 20, 2002.
William Gimson,
Acting Director.

[FR Doc. 02-25455 Filed 10-4-02; 8:45 am]

BILLING CODE 4160-18-M